FEDERAL COMMUNICATIONS COMMISSION

[EB Docket No. 03-152; FCC 03-158]

William L. Zawila, Avenal Educational Services, Inc., Central Valley Educational Services, Inc., H.L. Charles d/b/a Ford City Broadcasting, Linda Ware d/b/a/ Lindsay Broadcasting, and Western Pacific Broadcasting, Inc.—Order To Show Cause, Notice of Opportunity for Hearing, and Hearing Designation Order

AGENCY: Federal Communications Commission.

ACTION: Notice.

SUMMARY: In this document, the Commission issued an Order to Show Cause why the construction permits of broadcast stations KNGS(FM), Coalinga, California, KAAX(FM), Avenal, California, KAJP(FM), Firebaugh, California, and KZPE(FM), Ford City, California, and the license of broadcast station KZPO(FM), Lindsay, California, should not be revoked, and Notice of Opportunity for Hearing, and an Order designating for hearing the application for renewal of license of broadcast station KKFO(AM), Coalinga, California.

DATES: Petitions by persons desiring to participate as a party in the hearing may be filed not later than September 22, 2003, pursuant to 47 CFR 1.223. See SUPPLEMENTARY INFORMATION for dates that named parties should file appearances.

ADDRESSES: Federal Communications Commission, Enforcement Bureau, 445 12th Street, SW., Washington, DC 20554. See SUPPLEMENTARY INFORMATION for further filing instructions.

FOR FURTHER INFORMATION CONTACT: William Freedman, Deputy Chief, Enforcement Bureau, Investigations and Hearings Division, (202) 418-1420; Thomas Nessinger, Attorney-Advisor, Media Bureau, Audio Division, (202) 418-2700.

SUPPLEMENTARY INFORMATION: This is a summary of the Commission's Order to Show Cause, Notice of Opportunity for Hearing, and Hearing Designation Order, FCC 03-158, released July 16, 2003.

In the Order to Show Cause, the Commission set forth facts supporting the conclusion that the construction permits of broadcast stations KNGS(FM), Coalinga, California, KAAX(FM), Avenal, California, KAJP(FM), Firebaugh, California, and KZPE(FM), Ford City, California, and the license of broadcast station KZPO(FM), Lindsay, California, should be revoked, and offered the permittees/licensees of those broadcast stations the opportunity for hearing on the issues specified. In the Hearing Designation Order, the Commission determined there was a substantial and material question of fact as to whether the application of Western Pacific Broadcasting, Inc. (“WPBI”) for renewal of the license of broadcast station KKFO(AM), Coalinga, California, should be denied, and designated for hearing the KKFO(AM) application for renewal of license.

Station KNGS(FM), Coalinga, California (permitted to William L. Zawila [“Zawila”]) and station KAAX(FM), Avenal, California (permitted to Avenal Educational Services, Inc.) were to have constructed a 91-meter tower near Avenal, California, on which the antennas for both stations were to be located. Both applicants filed license applications representing that both stations had been constructed as authorized. An informal objector presented evidence, confirmed by Commission investigation, that one month after the license applications were filed, the actual transmitting facilities consisted of two 50-foot telephone poles with no main studio facilities. Upon inquiry, Zawila represented that the 91-meter tower had been constructed but was destroyed by vandalism. Commission investigation indicated that Zawila's representations were false, and that the facilities of KNGS(FM) and KAAX(FM) were not constructed according to the permits.

Commission investigation of station KAJP(FM), Firebaugh, California (permitted to Central Valley Educational Services, Inc., of which Zawila is an officer) yielded substantial and material questions of fact as to whether the original antenna was constructed according to the station's construction permit. Investigation also revealed no program origination or Emergency Alert System (“EAS”) equipment at the KAJP(FM) studio. The facilities of station KZPE(FM), Ford City, California (permitted to H.L. Charles d/b/a Ford City Broadcasting) were non-operational, consisting of an antenna mounted on a telephone pole, no main studio facilities, non-operational transmission equipment, and a site that had no power and which was so remote that gasoline to operate a power generator could not be delivered. H.L. Charles, the permittee, referred all questions regarding the station's operation to her “manager,” Zawila. Station KZPO(FM), Lindsay, California, is licensed to Linda Ware d/b/a Lindsay Broadcasting. In response to the Commission's pre-hearing inquiry, Zawila represented that Ms. Ware was deceased, but did not provide a date of death, and no application for transfer of control to the administrator of Ms. Ware's estate has been filed. Commission investigators found KZPO(FM)'s main studio is not located as indicated in its license, and that the main studio is not properly staffed. Investigators also determined that KZPO(FM)'s public file is incomplete, that there was no EAS equipment at the transmitter site or main studio, and that transmitter power output was in excess of that authorized.

In the Hearing Designation Order, the Commission set forth facts raising a substantial and material question of fact as to whether Zawila, as sole shareholder of WPBI, misrepresented facts to and/or lacked candor with the Commission by, among other things, representing that KKFO(AM) had lost its site due to redevelopment by the City of Coalinga, and representing that he was in negotiations with the City for return to the site, when in fact City officials denied such representations. The Commission also determined through investigation that WPBI failed to maintain properly staffed main studios for KKFO(AM); failed to maintain station logs or to make station logs and station facilities available for inspection by Commission representatives; failed to provide records and information to Commission representatives on request; failed timely to notify the Commission that KKFO(AM) was not adhering to a minimum operating schedule or failed to make an informal written request for additional time to restore a minimum operating schedule; failed to maintain a complete public file at the main studio of KKFO(AM) or at an accessible place in the community of license; failed to make equipment performance measurements upon installation of a new or replacement main transmitter and annually thereafter; failed to maintain and operate KKFO(AM) in a manner that complies with the technical rules set forth in Commission rules and in accordance with the KKFO(AM) station authorization; and failed to transmit broadcast signals for a period of over twelve consecutive months, causing the expiration of the KKFO(AM) license as a matter of law. Pursuant to sections 312(a) and 312(c) of the Communications Act of 1934, as amended, 47 U.S.C. 312(a) and (c), and 47 CFR 1.91(a), William L. Zawila, Avenal Educational Services, Inc. (“AES”), Central Valley Educational Services, Inc. (“CVES”), and H.L. Charles d/b/a Ford City Broadcasting (“FCB”) are directed to show cause why the construction permits for KNGS(FM), Coalinga, California; KAAX(FM), Avenal, California; KAJP(FM), Firebaugh, California; and KZPE(FM), Ford City, California, should not be revoked and all authority to operate said stations terminated, at a hearing before an F.C.C. Administrative Law Judge, at a time and place to be specified in a subsequent Order, upon the following issues:

1. To determine whether William L. Zawila, individually and/or as an officer of AES and CVES, or on behalf of FCB, misrepresented facts to and/or lacked candor with the Commission in his statements regarding the construction and/or operation of the facilities of KNGS(FM), KAAX(FM), KAJP(FM), and KZPE(FM), and in his statements in response to official Commission inquiries regarding the operation of said stations, in violation of section 312(a)(1) of the Communications Act of 1934, as amended, 47 U.S.C. 312(a)(1), and/or 47 CFR 73.1015;

2. To determine whether William L. Zawila, individually and/or as an officer of AES and CVES, or on behalf of FCB, willfully or repeatedly violated 47 CFR 73.1690(b)(2) by moving the antennas of KNGS(FM), KAAX(FM), KAJP(FM), or KZPE(FM) to different towers without a construction permit;

3. To determine whether William L. Zawila, AES, CVES and/or FCB willfully or repeatedly violated 47 CFR 73.1125 of the rules, by failing to maintain properly staffed main studios for KNGS(FM), KAAX(FM), KAJP(FM), and KZPE(FM), and by failing to have a local telephone number in the communities of license for KNGS(FM) and KAAX(FM), or toll-free telephone numbers for those stations;

4. To determine whether William L. Zawila, AES, CVES, and/or FCB willfully or repeatedly violated 47 CFR 73.3526, by failing to maintain proper public inspection files for KNGS(FM), KAAX(FM), KAJP(FM), and KZPE(FM);

5. To determine whether William L. Zawila, AES, and/or CVES willfully or repeatedly violated 47 CFR 17.57, by failing to notify the Commission within 24 hours of completion of construction of towers for which Antenna Registration Numbers had been assigned, or of changes in the structures' heights, for the towers on which the antennas of KNGS(FM), KAAX(FM), and KAJP(FM) were to have been mounted;

6. To determine whether William L. Zawila was an undisclosed real party in interest in FCB's application for license, or whether William L. Zawila and/or FCB willfully or repeatedly violated section 310(d) of the Communications Act of 1934, as amended, 47 U.S.C. 310(d), and/or 47 CFR 73.3540(a), by Zawila's assuming control of KZPE(FM) without prior Commission authorization; and

7. To determine, in light of the evidence adduced under the foregoing issues, whether William L. Zawila, AES, CVES, and/or FCB possess the requisite qualifications to be or remain permittees of their respective radio stations.

Pursuant to sections 312(a) and 312(c) of the Communications Act of 1934, as amended, 47 U.S.C. 312(a) and (c), and 47 CFR 1.91(a), William L. Zawila and Linda Ware d/b/a Lindsay Broadcasting (“LB”) or her successor(s) in interest are directed to show cause why the license for KZPO(FM), Lindsay, California should not be revoked and all authority to operate said station terminated, at a hearing before an F.C.C. Administrative Law Judge, at a time and place to be specified in a subsequent Order, upon the following issues:

1. To determine whether William L. Zawila, individually and/or on behalf of LB, misrepresented facts to and/or lacked candor with the Commission in his statements regarding the construction and operation of the facilities of KZPO(FM), and in his statements in response to official Commission inquiries regarding the operation of said station, in violation of section 312(a)(1) of the Communications Act of 1934, as amended, 47 U.S.C. 312(a)(1), and/or 47 CFR 73.1015;

2. To determine whether William L. Zawila and/or LB willfully or repeatedly violated section 310(d) of the Communications Act of 1934, as amended, 47 U.S.C. 310(d) and/or 47 CFR 73.3540(a) of the rules, by Zawila's assuming control of KZPO(FM) without prior Commission authorization;

3. To determine whether Zawila and/or LB willfully or repeatedly violated 47 CFR 11.15, 11.35(a), 11.35(c), and 11.52(d), by failing to maintain proper EAS equipment and proper EAS logs;

4. To determine whether William L. Zawila and/or LB willfully or repeatedly violated 47 CFR 73.1125 by failing to maintain a properly staffed main studio for KZPO(FM);

5. To determine whether Zawila and/or LB willfully or repeatedly violated 47 CFR 73.1800(a), 73.1225(a), 73.1225(c)(5), and 73.1226(a), by failing to maintain station logs and to make station logs and facilities available on request for inspection by the Commission;

6. To determine whether Zawila and/or LB willfully or repeatedly violated 47 CFR 73.1560(b), by operating station KZPO(FM) at a transmitter output power greater than 105% of authorized power;

7. To determine whether Zawila and/or LB willfully or repeatedly violated 47 CFR 73.1225(c)(2), 73.1226(c)(4), 73.1870(b)(3), and 73.1870(c)(3), by failing to maintain and make available for inspection records pertaining to the chief operator of station KZPO(FM), to post the written designation of chief operator, to maintain in the public inspection file agreements with the chief operator, and to have the chief operator review and sign station records and logs;

8. To determine whether Zawila and/or LB willfully or repeatedly violated 47 CFR 73.1350(a), by failing to maintain and operate KZPO(FM) in a manner that complies with the technical rules set forth in our rules and in accordance with its station authorization; and

9. To determine, in light of the evidence adduced under the foregoing issues, whether William L. Zawila and/or LB possess the requisite qualifications to be or remain licensees of KZPO(FM).

Pursuant to section 309(e) of the Communications Act of 1934, as amended, 47 U.S.C. 309(e), the application of Western Pacific Broadcasting, Inc. (“WPBI”) for renewal of license for KKFO(AM), Coalinga, California, File No. BR-19970804YJ, is designated for hearing before an F.C.C. Administrative Law Judge, at a time and place to be specified in a subsequent Order, upon the following issues:

1. To determine whether William L. Zawila, individually and/or on behalf of WPBI, misrepresented facts to and/or lacked candor with the Commission in his statements regarding the operation of the facilities of KKFO(AM), and in his statements in response to official Commission inquiries regarding the operation of said station, in violation of section 312(a)(1) of the Communications Act of 1934, as amended, 47 U.S.C. 312(a)(1), and/or 47 CFR 73.1015;

2. To determine whether William L. Zawila, individually and/or on behalf of WPBI, willfully or repeatedly violated 47 CFR 73.1125, by failing to maintain properly staffed main studios for KKFO(AM);

3. To determine whether William L. Zawila, individually and/or on behalf of WPBI, willfully or repeatedly violated 47 CFR 73.1800(a), 73.1225(a), 73.1225(c)(5), and 73.1226(a), by failing to maintain station logs and to make station logs available on request for inspection by the Commission, by failing to make KKFO(AM) available for inspection by representatives of the Commission during the station's business hours, and by failing to provide records and information to Commission representatives upon request;

4. To determine whether William L. Zawila, individually and/or on behalf of WPBI, willfully or repeatedly violated 47 CFR 73.1740(a)(4), by failing to notify the Commission not later than the tenth day of limited or discontinued operation that KKFO(AM) was not adhering to a minimum operating schedule, or by failing to make an informal written request for such additional time as may be necessary to restore the minimum operating schedule;

5. To determine whether William L. Zawila, individually and/or on behalf of WPBI, willfully or repeatedly violated 47 CFR 73.3526, by failing to maintain a complete public file at the main studio of KKFO(AM) or at an accessibly place in the community of license, which is available for public inspection at any time during regular business hours;

6. To determine whether William L. Zawila, individually and/or on behalf of WPBI, willfully or repeatedly violated 47 CFR 73.1590, by failing to make equipment performance measurements upon installation of a new or replacement main transmitter, and annually thereafter;

7. To determine whether William L. Zawila, individually and/or on behalf of WPBI, willfully or repeatedly violated 47 CFR 73.1350(a), by failing to maintain and operate KKFO(AM) in a manner that complies with the technical rules set forth in the Commission's rules and in accordance with its station authorization;

8. To determine whether station KKFO(AM) failed to transmit broadcast signals for a period of over twelve consecutive months, thus causing expiration of its license under section 312(g) of the Communications Act of 1934, as amended, 47 U.S.C. 312(g), and 47 CFR 73.1740(c); and

9. To determine, in light of the evidence adduced under the foregoing issues, whether the license for KKFO(AM) has expired pursuant to section 312(g) of the Communications Act of 1934, as amended, 47 U.S.C. 312(g), and 47 CFR 73.1740(c), or whether William L. Zawila and/or WPBI possess the requisite qualifications to be or remain licensees of KKFO(AM).

Appearances by Parties: William L. Zawila, Avenal Educational Services, Inc., Central Valley Educational Services, Inc., H.L. Charles d/b/a Ford City Broadcasting, and Linda Ware d/b/a/ Lindsay Broadcasting shall, within thirty (30) days of July 16, 2003, file a written appearance stating that they will appear at the hearing and present evidence on the matters specified in the Order to Show Cause.

Western Pacific Broadcasting, Inc. must, within twenty (20) days of mailing of notice of its designation as a party, file a written appearance in triplicate, stating that it will appear at the hearing on the date fixed for hearing and will present evidence on the issues specified in the Hearing Designation Order.

The full text of the Order to Show Cause, Notice of Opportunity for Hearing, and Hearing Designation Order is available for inspection and copying during normal business hours in the FCC Reference Information Center, Room CY-A257, 445 12th Street, SW., Washington, DC 20554. The complete text may be purchased from the Commission's copy contractor, Qualex International, 445 12th Street, SW., Room CY-B402, Washington, DC 20554. The full text may also be downloaded at: http://hraunfoss.fcc.gov/edocs_public/attachmatch/FCC-03-158A1.pdf. Alternative formats are available to persons with disabilities by contacting Martha Contee at (202) 418-0260 or TTY (202) 418-2555.

Federal Communications Commission.
Marlene H. Dortch,
Secretary.

[FR Doc. 03-21508 Filed 8-21-03; 8:45 am]

BILLING CODE 6712-01-P